NATIONAL SCIENCE FOUNDATION

Agency Information Collection Activities: Comment Request; National Science Foundation Request for Proposals

AGENCY: National Science Foundation.

ACTION: Notice.

SUMMARY: The National Science Foundation (NSF) is announcing plans to reinstate, with changes, this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by October 28, 2022 to be assured consideration. Comments received after that date will be considered to the extent practicable. Send comments to the address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: United States Antarctic Program (USAP) Climate Survey.

OMB Approval Number: 3145-0260.

Expiration Date of Approval: Not applicable.

Type of Request: Intent to seek approval to reinstate with revisions an information collection for three years. The primary purpose of this reinstatement is to identify and study the perceptions and perspectives of USAP participants located in Antarctica. The surveys address attitudes and concerns that will help NSF work with program participants and participating organizations to instill positive changes.

Proposed Project: In accordance with presidential memo 6646 the NSF manages the US Antarctic Program including occupation of three year-round stations located on the Antarctic continent. NSF is committed to a workplace and community that fosters a climate free from sexual assault and harassment. NSF has recently completed a Sexual Assault/Harassment Prevention and Response (SAHR) program which requires reinstatement of this information collection.

Use of the Information: Disseminating a climate survey ensures accurate baseline data that will allow NSF to monitor SAHPR program progress, course correct efforts, and objectively demonstrate successes.

Burden on the Public: The Foundation estimates that an average of 1,180 respondents are expected to complete the request per year for a total of (580) burden hours annually.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: August 24, 2022.
Suzanne H. Plimpton,
Reports Clearance Officer, National Science Foundation.

[FR Doc. 2022-18576 Filed 8-26-22; 8:45 am]

BILLING CODE 5555-01-P